NATIONAL CREDIT UNION ADMINISTRATION

Sunshine Act; Notice of Agency Meeting

TIME AND DATE: 10:00 a.m., Thursday, December 6, 2012.

PLACE: Board Room, 7th Floor, Room 7047, 1775 Duke Street (All visitors must use Diagonal Road Entrance), Alexandria, VA 22314-3428.

STATUS: Open.

MATTERS TO BE CONSIDERED: 1. NCUA's Rules and Regulations, Alternatives to the Use of Credit Ratings.

2. NCUA's Rules and Regulations, Fidelity Bond and Insurance Coverage for Federal Credit Unions.

3. Request from Focus Federal Credit Union to Convert to a Community Charter.

4. Request from The Atlantic Federal Credit Union to Convert to a Community Charter.

5. Temporary Corporate Credit Union Stabilization Fund Budget.

RECESS: 11:15 a.m.

TIME AND DATE: 11:30 a.m., Thursday, December 6, 2012.

PLACE: Board Room, 7th Floor, Room 7047, 1775 Duke Street, Alexandria, VA 22314-3428.

STATUS: Closed.

MATTERS TO BE CONSIDERED: 1. Creditor Claim Appeal. Closed pursuant to exemptions (4) and (6).

2. Termination of Investment Pilot Programs. Closed pursuant to exemption (8).

3. Personnel. Closed pursuant to exemptions (2) and (6).

FOR FURTHER INFORMATION CONTACT: Mary Rupp, Secretary of the Board, Telephone: 703-518-6304.

Mary Rupp,
Board Secretary.

[FR Doc. 2012-29267 Filed 11-29-12; 4:15 pm]

BILLING CODE 7535-01-P